DEPARTMENT OF ENERGY

Federal Energy Regulatory Commission

[Project No. 3255-016]

Lyonsdale Associates, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 3255-016.

c. Date Filed: May 29, 2024.

d. Applicant: Lyonsdale Associates, LLC (Lyonsdale Associates).

e. Name of Project: Lyonsdale Hydroelectric Project (Lyonsdale Project or project).

f. Location: On the Moose River in Lewis County, New York.

g. Filed Pursuant to: Federal Power Act, 16 U.S.C. 791(a)-825(r).

h. Applicant Contact: David H. Fox, Senior Director, Regulatory Affairs, Lyonsdale Associates, LLC, c/o Eagle Creek Renewable Energy, LLC, 7315 Wisconsin Ave., Suite 1100W, Bethesda, MD 20814; telephone at (201) 306-5616; email at david.fox@eaglecreekre.com.

i. FERC Contact: Kelly Wolcott, Project Coordinator, Great Lakes Branch, Division of Hydropower Licensing; telephone at (202) 502-6480; email at kelly.wolcott@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 28, 2024.

Pursuant to 18 CFR 385.2007(a)(2), the Commission's Rules of Practice and Procedure provide that if a filing deadline falls on a Saturday, Sunday, holiday, or other day when the Commission is closed for business, the filing deadline does not end until the close of business on the next business day.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Lyonsdale Hydroelectric Project (P-3255-016).

m. The application is not ready for environmental analysis at this time.

n. Project Description: The Lyonsdale Project includes a dam that consists of: (1) a concrete intake structure with two 10.5-foot-long, 8.5-foot-high sluice gates that are equipped with a trashrack with 2.6-inch clear bar spacing; (2) an approximately 100-foot-long concrete non-overflow section with a 5-foot-long, 5-foot-high aluminum debris sluice gate and a non-operational 4-foot-long, 4-foot-high sluice gate; (3) a 149-foot-long overflow concrete section that includes: (a) a 7-foot-long south abutment; (b) an 85.3-foot-long spillway with 3-foot-high flashboards that have a crest elevation of 1,065.9 feet National Geodetic Vertical Dam of 1929 (NGVD 29); (c) a 4-foot-long pier; (d) a 20.5-foot-long, 6-foot-high Pelican gate; (e) a 3.7-foot-long pier; (f) a 21.5-foot-long spillway with 1.7-foot-high flashboards that have a crest elevation of 1,065.9 feet NGVD 29; and (g) a 7-foot-long north abutment; (4) a 39.5-foot-long overflow concrete section that includes: (a) a 4-foot-long south abutment; (b) a 33.5-foot-long spillway with 3-foot-high flashboards that have a crest elevation of 1,065.9 feet NGVD 29; and (c) a 2-foot-long north abutment; (5) an approximately 185-foot-long earthen embankment; and (6) a 48-foot-long overflow concrete section that includes: (a) a 5-foot-long south abutment; (b) a 38-foot-long spillway section with 3-foot-high flashboards that have a crest elevation of 1,065.9 feet NGVD 29; and (c) a 5-foot-long north abutment.

The dam creates an impoundment that has a surface area of 9 acres at the flashboard crest elevation of 1,065.9 feet NGVD 29. The impoundment includes a 100-foot-long, 35-foot-wide, 24-foot-deep concrete-lined forebay that is formed by: (1) a 100-foot-long retaining wall on the south bank of the impoundment; (2) the intake structure of the dam; and (3) the 100-foot-long non-overflow section of the dam. From the forebay, water flows through the south sluice gate of the intake structure to a 52-foot-long, 8.7-foot-diameter steel penstock, and through the north sluice gate of the intake structure to a 26-foot-long, 8.7-foot-diameter steel penstock. The penstocks convey water to two 1.5-megawatt (MW) vertical Kaplan turbine-generator units located in a 35-foot-wide, 58-foot-long concrete and masonry powerhouse that has a total installed capacity of 3 MW. Water is discharged from the turbines through draft tubes to an approximately 450-foot-long, 70-foot-wide tailrace channel that discharges to the Moose River.

The project creates the following bypassed reach segments: (1) an approximately 200-foot-long southern segment downstream of the 149-foot-long and 39.5-foot-long overflow sections of the dam; and (2) an approximately 70-foot-long segment downstream of the 48-foot-long overflow section of the dam that bifurcates into: (a) an approximately 350-foot-long middle segment that discharges approximately 100 feet downstream of the powerhouse; and (b) an approximately 580-foot-long northern segment that discharges approximately 450 feet downstream of the powerhouse.

The project generators are connected to the regional electric grid by two 400-foot-long (300 feet underground, 100 feet above ground), 4.16-kilovolt (kV) generator lead lines and a 4.16/115-kV step-up transformer. The minimum and maximum hydraulic capacities of the powerhouse are 260 and 1,240 cubic feet per second (cfs), respectively. The average annual energy production of the project from 2016 through 2023, was 10,745 megawatt-hours.

The current license requires the implementation of a December 1, 1986 recreation plan that includes: (1) a trail on the north shoreline of the impoundment, which is shown as a 1,000-foot-long “North Shore Recreation Trail” in the license application; (2) a trail that extends from the north shoreline of the impoundment to the downstream reach of the Moose River, which according to the license application is 1,000 feet long and serves as a portage route; (3) a trail on the south shoreline of the impoundment, which according to the license application, has not been constructed; (4) a parking area between the 39.5-foot-long and 48-foot-long overflow sections of the dam; and (5) signage associated with the project recreation facilities.

Non-project recreation facilities within the project boundary include: (1) a hand-carry boat access site on the north shoreline of the impoundment that is associated with the project portage route; (2) a picnic area on the north shoreline of the impoundment that includes a picnic table and trash can; (3) a hand-carry boat access site at the end of the project portage route, approximately 580 feet downstream of the dam; and (4) a parking area, informational signage, and shoreline access for anglers on the south shoreline of the impoundment (referred to in the license application as “South Bank Recreation Area”).

The current license requires Lyonsdale Associates to operate the project in a run-of-river mode, such that project outflow approximates inflow. Under normal operating conditions, Lyonsdale Associates maintains the surface elevation of the impoundment at the flashboard crest elevation of 1,065.9 feet NGVD 29.

Lyonsdale Associates proposes to continue to operate the project in a run-of-river mode and maintain the surface elevation of the impoundment at the flashboard crest elevation of 1,065.9 feet NGVD 29. Lyonsdale Associates also proposes to: (1) release a minimum flow of 33 cfs or inflow, whichever is less, from the 48-foot-long overflow section of the dam to the middle and northern segments of the bypassed reach from April 1 through November 30; (2) implement an Invasive Species Management Plan and a Bat and Eagle Management Plan filed in Appendix C of Volume 1 of the license application; (3) consult with the New York State Historic Preservation Office (SHPO) on the need for measures prior to any ground-disturbing activities; and (4) stop work and consult with the New York SHPO on the need for measures if archaeological remains or historical sites are discovered during any future construction activities at the project.

Lyonsdale Associates proposes to operate and maintain the following facilities as project recreation facilities: the North Shore Recreation Trail; the picnic area on the north shoreline of the impoundment; the portage route the parking area between the overflow sections of the dam; and the South Bank Recreation Area. In addition, Lyonsdale Associates proposes to update and maintain project recreation signs, and install barriers to deter all-terrain vehicle (ATV) access to project recreation sites.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3255). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information—July 2024

Issue Scoping Document 1 for comments—September 2024

Request Additional Information (if necessary)—November 2024

Issue Acceptance Letter—November 2024

Issue Scoping Document 2 (if necessary)—November 2024

Issue Notice of Ready for Environmental Analysis—November 2024

r. Final amendments to the application must be filed with the Commission no later than 30 days from the issuance date of the notice of ready for environmental analysis.

Dated: June 12, 2024.
Debbie-Anne A. Reese,
Acting Secretary.

[FR Doc. 2024-13395 Filed 6-17-24; 8:45 am]

BILLING CODE 6717-01-P